DEPARTMENT OF LABOR

Office of the Secretary

Bureau of International Labor Affairs; Request for Information Concerning Labor Rights in Singapore and Its Laws Governing Exploitative Child Labor

AGENCIES: Office of the Secretary, Labor; Office of the United States Trade Representative and Department of State.

ACTION: Request for public comments.

SUMMARY: This notice is a request for public comments to assist the Secretary of Labor, the United States Trade Representative and the Secretary of State in preparing reports regarding labor rights in Singapore and describing the extent to which Singapore has in effect laws governing exploitative child labor. The Trade Act of 2002 requires reports on these issues and others when the President intends to use trade promotion authority procedures in connection with legislation approving and implementing a trade agreement. Negotiators for the United States and Singapore announced that they approved the elements of such an agreement on November 19, 2002. The President assigned the functions of preparing reports regarding labor rights and the existence of laws governing exploitative child labor to the Secretary of Labor, in consultation with the Secretary of State and the United States Trade Representative. The Secretary of Labor further assigned these functions to the Secretary of State and United States Trade Representative.

DATES: Public comments should be received no later than 5 p.m. February 27, 2003.

ADDRESSES: Persons submitting comments are strongly advised to make such submissions by electronic mail to the following address: FRFTASINGAPORE@dol.gov. Submissions by facsimile may be sent to: Betsy White at the Office of International Economic Affairs, Bureau of International Labor Affairs (202) 693-4851.

FOR FURTHER INFORMATION CONTACT: For procedural questions regarding the submissions please contact Betsy White, Bureau of International Labor Affairs, Office of International Economic Affairs, at (202) 693-4919, facsimile (202) 693-4851. This is not a toll-free number. Substantive questions concerning the labor rights report and/or the report on Singapore's laws governing exploitative child labor should be addressed to Jorge Perez-Lopez, Office of International Economic Affairs, Bureau of International Labor Affairs, U.S. Department of Labor, 200 Constitution Avenue, NW., Washington, DC 20210, telephone (202) 693-4883.

SUPPLEMENTARY INFORMATION:

I. Background

The Trade Act of 2002 (Pub. L. 107-210) (“the Trade Act”) sets forth special procedures (Trade Promotion Authority) for approval and implementation of Agreements subject to meeting conditions and requirements in the Act. Division B of the Trade Act, entitled the Bipartisan Trade Promotion Authority Act of 2002, includes negotiating objectives and a listing of priorities for the President to promote in order to “address and maintain United States competitiveness in the global economy” in pursuing future trade agreements. 19 U.S.C. 3802(a)-(c). The President delegated several of the functions in section 3802(c) to the Secretary of Labor. (E.O. 13277). These include the functions set forth in section 2102(c)(8), which requires that the President “in connection with any trade negotiations entered into under this Act, submit to the Committee on Ways and Means of the House of Representatives and the Committee on Finance of the Senate a meaningful labor rights report of the country, or countries, with respect to which the President is negotiating * * *” and the function in section 2102(c)(9), which requires that the President “with respect to any trade agreement which the President seeks to implement under trade authorities procedures, submit to the Congress a report describing the extent to which the country or countries that are parties to the agreement have in effect laws governing exploitative child labor.”

II. Information Sought

Interested parties are invited to submit written information as specified below to be taken into account in drafting the required reports. Materials submitted should be confined to the specific topics of the reports. In particular, agencies are seeking written submissions on the following topics:

1. Singapore's labor laws, including laws governing exploitative child labor, and Singapore's implementation and enforcement of such laws and regulations;

2. The situation in Singapore with respect to core labor standards;

3. Steps taken by Singapore to comply with International Labor Organization Convention 182 on the worst forms of child labor; and

4. The nature and extent, if any, of exploitative child labor in Singapore.

Section 2113(6) of the Trade Act defines “core labor standards” as:

(A) The right of association;

(B) The right to organize and bargain collectively;

(C) A prohibition on the use of any form of forced or compulsory labor;

(D) A minimum age for the employment of children; and

(E) Acceptable conditions of work with respect to minimum wages, hours of work, and occupational safety and health.

III. Requirements for Submissions

To ensure prompt and full consideration of submissions, we strongly recommend that interested persons submit comments by electronic mail to the following e-mail address: FRFTASINGAPORE@dol.gov. Persons making submissions by e-mail should use the following subject line: “Singapore: Labor Rights and Child Labor Reports.” Documents should be submitted in WordPerfect, MSWord, or text (.TXT) format. Supporting documentation submitted as spreadsheets is acceptable in Quattro Pro or Excel format. Persons who make submissions by e-mail should not provide separate cover letters; information that might appear in a cover letter should be included in the submission itself. Similarly, to the extent possible, any attachments to the submission should be included in the same file as the submission itself, and not as separate files. Written comments will be placed in a file open to public inspection at the Department of Labor, Room S-5317, 200 Constitution Avenue, NW., Washington DC and in the USTR Reading Room in Room 3 of the annex of the Office of the USTR, 1724 F Street, NW., Washington, DC 20508. An appointment to review the file at the Department of Labor may be made by contacting Betsy White at (202) 693-4919. An appointment to review the file at USTR may be made by calling (202) 395-6186. The USTR Reading Room is generally open to the public from 10 a.m.-12 noon and 1-4 p.m. Monday through Friday. Appointments must be scheduled at least 48 hours in advance.

Signed at Washington, DC this 22nd day of January, 2003.
Michael A. Magan,
Associate Deputy Under Secretary for International Affairs.

[FR Doc. 03-1851 Filed 1-27-03; 8:45 am]

BILLING CODE 4510-28-P